DEPARTMENT OF ENERGY

Federal Energy Regulatory Commission

Combined Notice of Filings #1

Take notice that the Commission received the following electric rate filings:

Docket Numbers: ER10-2437-003.

Applicants: Arizona Public Service Company.

Description: Supplement to December 22, 2015 Triennial Market Power Update [SIL Study] of Arizona Public Service Company.

Filed Date: 8/5/16.

Accession Number: 20160805-5167.

Comments Due: 5 p.m. ET 8/26/16.

Docket Numbers: ER10-2437-007.

Applicants: Arizona Public Service Company.

Description: Notice of Non-Material Change in Status of Arizona Public Service Company.

Filed Date: 8/4/16.

Accession Number: 20160804-5174.

Comments Due: 5 p.m. ET 8/25/16.

Docket Numbers: ER10-2437-008.

Applicants: Arizona Public Service Company.

Description: Notice of Change in Status of Arizona Public Service Company.

Filed Date: 8/5/16.

Accession Number: 20160805-5170.

Comments Due: 5 p.m. ET 8/26/16.

Docket Numbers: ER15-958-005.

Applicants: Transource Kansas, LLC.

Description: Compliance filing: Transource Kansas Compliance Filing to be effective 4/3/2015.

Filed Date: 8/5/16.

Accession Number: 20160805-5086.

Comments Due: 5 p.m. ET 8/26/16.

Docket Numbers: ER16-1934-000.

Applicants: Drift Marketplace, Inc.

Description: Amendment to June 15, 2016 Drift Marketplace, Inc. tariff filing.

Filed Date: 8/5/16.

Accession Number: 20160805-5071.

Comments Due: 5 p.m. ET 8/15/16.

Docket Numbers: ER16-2378-000.

Applicants: ISO New England Inc., Eversource Energy Service Company.

Description: § 205(d) Rate Filing: Revisions to Att. F of ISO-NE OATT to Comply with Normalization Requirements to be effective 6/1/2016.

Filed Date: 8/5/16.

Accession Number: 20160805-5094.

Comments Due: 5 p.m. ET 8/26/16.

Docket Numbers: ER16-2379-000.

Applicants: Alabama Power Company.

Description: Tariff Cancellation: Peach Solar Energy 3 (Project 2) SGIA Termination Filing to be effective 8/5/2016.

Filed Date: 8/5/16.

Accession Number: 20160805-5106.

Comments Due: 5 p.m. ET 8/26/16.

Docket Numbers: ER16-2380-000.

Applicants: Alabama Power Company.

Description: Tariff Cancellation: Duke Energy Renewables Solar SGIA Termination Filing to be effective 8/5/2016.

Filed Date: 8/5/16.

Accession Number: 20160805-5107.

Comments Due: 5 p.m. ET 8/26/16.

Docket Numbers: ER16-2381-000.

Applicants: Alabama Power Company.

Description: Tariff Cancellation: Infigen Energy US Development (Georgia Solar III) LGIA Termination Filing to be effective 8/5/2016.

Filed Date: 8/5/16.

Accession Number: 20160805-5108.

Comments Due: 5 p.m. ET 8/26/16.

Docket Numbers: ER16-2382-000.

Applicants: Southern California Edison Company.

Description: § 205(d) Rate Filing: Amended Sierra Pacific-Edison Sliver Peak 55kV Interconnection Agreement to be effective 8/6/2016.

Filed Date: 8/5/16.

Accession Number: 20160805-5110.

Comments Due: 5 p.m. ET 8/26/16.

Docket Numbers: ER16-2383-000.

Applicants: Tampa Electric Company.

Description: Compliance filing: Compliance Filing Under Order No 828 to be effective 10/5/2016.

Filed Date: 8/5/16.

Accession Number: 20160805-5114.

Comments Due: 5 p.m. ET 8/26/16.

Docket Numbers: ER16-2384-000.

Applicants: PacifiCorp.

Description: § 205(d) Rate Filing: OATT Revised Section 29 (control area requirement) to be effective 10/5/2016.

Filed Date: 8/5/16.

Accession Number: 20160805-5128.

Comments Due: 5 p.m. ET 8/26/16.

Docket Numbers: ER16-2385-000.

Applicants: Southern California Edison Company.

Description: § 205(d) Rate Filing: Eight Letter Agreements ACES Projects to be effective 8/8/2016.

Filed Date: 8/5/16.

Accession Number: 20160805-5145.

Comments Due: 5 p.m. ET 8/26/16.

Docket Numbers: ER16-2386-000.

Applicants: ISO New England Inc., Central Maine Power Company.

Description: § 205(d) Rate Filing: Revisions to Schedule 21-CMP of ISO-NE OATT to Comply with Normalization Req. to be effective 6/1/2016.

Filed Date: 8/5/16.

Accession Number: 20160805-5150.

Comments Due: 5 p.m. ET 8/26/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 5, 2016.
Nathaniel J. Davis, Sr.,
Deputy Secretary.

[FR Doc. 2016-19071 Filed 8-10-16; 8:45 am]

BILLING CODE 6717-01-P